DEPARTMENT OF ENERGY

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement for Cooperation in the Peaceful Uses of Nuclear Energy between the United States of America and the European Atomic Energy Community.

DATES: This subsequent arrangement will take effect no sooner than April 2, 2019.

FOR FURTHER INFORMATION CONTACT:

Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns the addition of Egypt, Indonesia, Morocco, Turkey, Ukraine, United Arab Emirates, United Kingdom, and Vietnam to the list of countries referred to in paragraph 2 of the Agreed Minute to the Agreement for Cooperation in the Peaceful Uses of Nuclear Energy between the United States of America and the European Atomic Energy Community (the Agreement), listing countries eligible to receive retransfers under Article 8.1(C)(i) of the Agreement of low enriched uranium, non-nuclear material, equipment and source material transferred pursuant to the Agreement, and low enriched uranium produced through the use of nuclear material or equipment transferred pursuant to the Agreement, for nuclear fuel cycle activities other than the production of high enriched uranium. Paragraph 2 of the Agreed Minute to the Agreement provides that third countries on the U.S. advance consent list must have made effective non-proliferation commitments and must be a party to a nuclear cooperation agreement with the United States. Each of the countries being added to the U.S. advance consent list, except for the United Kingdom, meets these criteria. The United Kingdom will meet these criteria and be eligible to receive retransfers upon entry into force of the Agreement between the Government of the United States of America and the Government of the United Kingdom of Great Britain and Northern Ireland for Cooperation in Peaceful Uses of Nuclear Energy.

Pursuant to the authority in section 131a. of the Atomic Energy Act of 1954, as delegated, I have determined that this proposed subsequent arrangement will not be inimical to the common defense and security of the United States of America.

Dated: March 5, 2019.
For the Department of Energy.
Brent K. Park,
Deputy Administrator, Defense Nuclear Nonproliferation.

[FR Doc. 2019-04988 Filed 3-15-19; 8:45 am]

BILLING CODE 6450-01-P